ENVIRONMENTAL PROTECTION AGENCY

40 CFR Part 52

[MT-001-0010; MT-001-0028; FRL-7489-5]

Approval and Promulgation of Air Quality Implementation Plans; Montana; Billings/Laurel Sulfur Dioxide State Implementation Plan

Correction

In rule document 03-12616 beginning on page 27908 in the issue of Thursday, May 22, 2003, make the following correction:

§52.1370 Identification of plan.

On page 27911, in the first column, in §52.1370 (c)(52)(i)(A), in the second line, “or the flare” should read “or in the flare”.

[FR Doc. C3-12616 Filed 5-30-03; 8:45 am]

BILLING CODE 1505-01-D